DEPARTMENT OF COMMERCE

National Oceanic and Atmospheric Administration

[I.D. 032405C]

New England Fishery Management Council; Public Meeting

AGENCY: National Marine Fisheries Service (NMFS), National Oceanic and Atmospheric Administration (NOAA), Commerce.

ACTION: Public meeting.

SUMMARY: The New England Fishery Management Council (Council) is scheduling a public meeting of its Habitat Advisory Panel in April 2005. Recommendations from the panel will be brought to the full Council for formal consideration and action, if appropriate.

DATES: The meeting will held on Wednesday, April 13, 2005, from 9 a.m. to 5 p.m.

ADDRESSES: The meeting will be held at the Coastal Institute University of Rhode Island-Bay Campus, 218 South Ferry Road, Narragansett, RI 02882.

FOR FURTHER INFORMATION CONTACT: Paul J. Howard, Executive Director, New England Fishery Management Council (978) 465-0492. Requests for special accommodations should be addressed to the New England Fishery Management Council, 50 Water Street, Newburyport, MA 01950; telephone: (978) 465-0492.

SUPPLEMENTARY INFORMATION: The advisory panel will continue work on developing detailed descriptions of the gears used in fisheries of the Northeastern United States as requested by the Habitat Committee. If time allows they will review Habitat Area of Particular Concern (HAPC) proposals and prepare advice for the committee and develop Dedicated Habitat Research Areas (DHRA) sites based on the Habitat Committee's request.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least five days prior to the meeting dates.

Dated: March 24, 2005.
Peter H. Fricke,
Acting Director, Office of Sustainable Fisheries, National Marine Fisheries Service.

[FR Doc. 05-6189 Filed 3-28-05; 8:45 am]

BILLING CODE 3510-22-S